DEPARTMENT OF HOMELAND SECURITY

Coast Guard

[CGD07-04-095]

Reorganization of Group Key West and Marine Safety Detachment Marathon; Implementation of Sector Key West

AGENCY: Coast Guard, DHS.

ACTION: Notice of organizational change.

SUMMARY: The Coast Guard announces the consolidation of Group Key West and Marine Safety Detachment (MSD) Marathon into one command, Sector Key West. The Sector Key West Commanding Officer will have the authority, responsibility and missions of a Group Commander and Commanding Officer, Marine Safety Office (MSO). The Coast Guard has established a continuity of operations whereby all previous practices and procedures will remain in effect until superseded by an authorized Coast Guard official and/or document.

DATES: This notice is effective August 4, 2004.

ADDRESSES: Documents indicated in this preamble as being available in the docket are part of docket CGD07-04-095 and are available for inspection or copying at District 7 Resources, 9th Floor, 909 SE 1st Avenue, Miami, FL 33131 between 7:30 a.m. and 4:30 p.m., Monday through Friday, except Federal Holidays.

FOR FURTHER INFORMATION CONTACT: Lieutenant Carlos A. Cuesta, District 7 Resources Program at 305-415-6706.

SUPPLEMENTARY INFORMATION:

Discussion of Notice

Sector Key West will be composed of a Response Department, Prevention Department, and Logistics Department. The Response and Logistics Departments will be located at Key West. The Prevention Department will be located at 1600 Overseas Highway, Marathon FL 33050. All existing missions and functions performed by Group Key West and MSD Marathon will be realigned under this new organizational structure as of August 5, 2004, and Group Key West and MSD Marathon will no longer exist as organizational entities.

Sector Key West will be responsible for all Coast Guard missions in the following zone: “the boundary of the Key West Marine Inspection Zone and Captain of the Port zone starts at a line bearing 111° T from the shoreline at 25° 25′ N. Latitude, 80° 20′ W. Longitude seaward to the extent of the economic exclusive zone; including all of Monroe County, Florida, then from the economic exclusive zone easterly along a line bearing 065° T to the coast at the Monroe and Collier County boundary.” The following chart depicts this area.

BILLING CODE 4910-15-P

BILLING CODE 4910-15-C

The Seventh District Commander may also designate sector Key West mission coordinator for search and rescue and law enforcement operations beyond the exclusive economic zone.

The Sector Key West Commander is vested with all the rights, responsibilities, duties, and authority of a Group Commander and Commanding Officer, Marine Safety Office, as provided for in Coast Guard regulations, and is the successor in command to the Commanding Officer, Group Key West. The Sector Key West Commander is designated: (a) Captain of the Port (COTP) for the Key West COTP zone; (b) Federal Maritime Security Coordinator (FMSC); (c) Federal On Scene Coordinator (FOSC) for the Key West COTP zone, consistent with the National Contingency Plan; (d) Officer In Charge of Marine Inspection (OCMI) for the Key West Marine Inspection Zone and, (e) Search and Rescue Mission Coordinator (SMC). The Deputy Sector Commander is designated alternate COTP, FMSC, FOSC, OCMI and SMC. A continuity of operations order has been issued providing that all previous Group Key West and MSD Marathon practices and procedures will remain in effect until superseded by Commander, Sector Key West. This continuity of operations order addresses existing COTP regulations, orders, directives and policies. Also, Sector Miami will provide contingency response and marine inspection support for Sector Key West.

The following information is a list of updated command titles, addresses and points of contact to facilitate requests from the public and assist with entry into security or safety zones:

Name: Sector Key West.

Address: Commander, U.S. Coast Guard Sector Key West, Trumbo Pt. Annex, Key West, FL 33040.

Contact: Operations Center, (305) 292-8727, Sector Commander: CAPT P.J. Heyl, (305) 292-8713, Deputy Sector Commander: CDR J.O. Fitton, (305) 292-8711.

Chief, Response Dept: LCDR T. J. Ciampaglio, (305) 292-8730.

Chief, Prevention Dept: LT D. Silvestro, (not yet assigned).

Chief, Logistics Dept: LT G.A. Hillman, (305) 292-8756.

Dated: July 26, 2004.
D. B. Peterman,
Rear Admiral, U. S. Coast Guard, Commander, Seventh Coast Guard District.

[FR Doc. 04-17687 Filed 8-3-04; 8:45 am]

BILLING CODE 4910-15-P